GENERAL SERVICES ADMINISTRATION

41 CFR Part 302-17

[FTR Amendment 2008-03; FTR Case 2008-302; Docket 2008-002, Sequence 1]

RIN 3090-AI48

Federal Travel Regulation; Relocation Income Tax (RIT) Allowance Tax Tables-2008 Update

Correction

In rule document E8-10022 beginning on page 25539 in the issue of Wednesday, May 7, 2008 make the following corrections:

On page 25542, in Part 302-17, under Appendix D to Part 302-17,the tables should read as set forth below:

Appendix D to Part 302-17—[Corrected]

Puerto Rico Marginal Tax Rates by Earned Income Level—Tax Year 2007
[Use the following table to compute the RIT allowance for Puerto Rico taxes, as prescribed in 302-17.8(e)(4)(i), on taxable reimbursements received during calendar year 2007.]
Marginal tax rate: Percent | For married person living with spouse and filing jointly, married person not living with spouse, single person, or head of household: Over | For married person living with spouse and filing jointly, married person not living with spouse, single person, or head of household: But not over
7% | $2,000 | $17,000
14% + 1,190 | 17,000 | 30,000
25% + 3,010 | 30,000 | 50,000
33% + 8,010 | 50,000 |

Marginal tax rate: Percent | For married person living with spouse and filing separately: Over | For married person living with spouse and filing separately: But not over
7% | $1,000 | $8,500
14% + $595 | 8,500 | 15,000
25% + 1,505 | 15,000 | 25,000
33% + 4,005 | 25,000 |
Source: Individual Income Tax Return 2007—Long Form; Commonwealth of Puerto Rico, Department of the Treasury, P.O. Box 9022501, San Juan, PR 00902-2501; http://www.hacienda.gobierno.pr/.

[FR Doc. Z8-10022 Filed 8-29-08; 8:45 am]

BILLING CODE 1505-01-D